SOCIAL SECURITY ADMINISTRATION

20 CFR Part 405

RIN 0960-AG31

Administrative Review Process for Adjudicating Initial Disability Claims; Correction

AGENCY: Social Security Administration.

ACTION: Final rule; correction.

SUMMARY: The Social Security Administration is correcting a final rule that appeared in the Federal Register on March 31, 2006 (71 FR 16424). The document amends our administrative review process for applications for benefits that are based on whether you are disabled under title II of the Social Security Act (the Act), or applications for supplemental security income (SSI) payments that are based on whether you are disabled or blind under title XVI of the Act.

DATES: Effective August 1, 2006.

FOR FURTHER INFORMATION CONTACT: Richard Bresnick, Social Insurance Specialist, Office of Regulations, Social Security Administration, 100 Altmeyer Building, 6401 Security Boulevard, Baltimore, MD 21235-6401, (410) 965-1758 or TTY (410) 966-5609 for information about this notice. For information on eligibility or filing for benefits, call our national toll-free number, 1-800-772-1213 or TTY 1-800-325-0778, or visit our Internet site, Social Security Online, at http://www.socialsecurity.gov.

SUPPLEMENTARY INFORMATION: In FR Doc. 06-3011 appearing on page 16424 in the Federal Register of Friday, March 31, 2006, the following correction is made:

§ 405.601 [Corrected]

On page 16456, in the third column, in § 405.601, in paragraph (b), “§§ 404.989(a)(1) and 416.989(a)(1)” is corrected to read “§§ 404.989(a)(1) and 416.1489(a)(1)”.

Dated: April 4, 2006.
Gregory Zwitch,
Social Security Regulations Officer.

[FR Doc. 06-3388 Filed 4-7-06; 8:45 am]

BILLING CODE 4191-02-P